DEPARTMENT OF COMMERCE

National Oceanic and Atmospheric Administration

RIN 0648-XD694

Marine Mammals; File No. 18662

AGENCY: National Marine Fisheries Service (NMFS), National Oceanic and Atmospheric Administration (NOAA), Commerce.

ACTION: Notice; issuance of permit.

SUMMARY: Notice is hereby given that a permit has been issued to Allyson Hindle, Ph.D., Assistant Professor of Anesthesia, Massachusetts General Hospital, 55 Fruit Street, Thier 503, Boston, MA 02114 to receive, import, and export specimens of marine mammals for scientific research purposes.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa L. González or Amy Sloan, (301) 427-8401.

SUPPLEMENTARY INFORMATION: On January 8, 2015, notice was published in the Federal Register (80 FR 1027) that a request for a permit to receive, import, and export specimens of marine mammals for scientific research purposes had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes the applicant to receive, import, and export specimen materials for comparative research on the physiology and other biological aspects of marine mammals. Unlimited samples from up to 200 individual cetaceans and 200 individual pinnipeds (excluding walrus) are authorized to be received, imported, or exported annually on an opportunistic basis from other permitted sources (legal subsistence harvests and legal commercial fishing operations; stranded animals in foreign countries; captive animals; and other permitted research in the U.S. and abroad). Samples collected from stranded animals in the U.S. and received under separate authorization may be exported and re-imported. No takes of live animals are permitted. The permit is valid through March 31, 2020.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: April 14, 2015.
Julia Harrison,
Chief, Permits and Conservation Division, Office of Protected Resources, National Marine Fisheries Service.

[FR Doc. 2015-09438 Filed 4-22-15; 8:45 am]

BILLING CODE 3510-22-P